DEPARTMENT OF THE INTERIOR

Bureau of Land Management

[CA-169-1220-PG]

Notice of Public Meeting, Carrizo Plain National Monument Advisory Committee

SUMMARY: In accordance with Federal Land Policy and Management Act (FLPMA) and the Federal Advisory Committee Act of 1972 (FACA), the United States Department of the Interior, Bureau of Land Management (BLM), Carrizo Plain National Monument Advisory Committee will meet as indicated below.

DATES: The meeting will be held on Saturday, October 4, 2003 at the Carrisa Plains Elementary School located two miles west of the intersection of Soda Lake Road and Highway 58 in eastern San Luis Obispo County. The meeting will begin at 9 AM and finish at 5 PM. There will be a public comment period from 3-4 PM. A field trip is also planned for those committee members who are able to attend the preceding day, Friday, starting at 9 AM. The field trip will begin at the intersection of Soda Lake Road and the entrance to the Washburn Ranch administrative site, approximately 8 miles from the northern entrance of the monument. This field trip is being offered at the request of committee members and will provide a continued orientation to the monument.

SUPPLEMENTARY INFORMATION: The nine-member Carrizo Plain National Monument Advisory Committee advises the Secretary of the Interior, through the Bureau of Land Management, on a variety of public land issues associated with public land management in the Carrizo Plain National Monument in central California. At this meeting, monument staff will present updated information on the progress on the new Carrizo Plain National Monument Resource Management Plan. This meeting is open to the public, who may present written or verbal comments. Depending on the number of persons wishing to comment, and the time available, the time allotted for individual oral comments may be limited. Individuals who plan to attend and need special assistance such as sign language interpretation or other reasonable accommodations should contact the BLM as indicated below.

FOR FURTHER INFORMATION CONTACT: Bureau of Land Management, Attention: Marlene Braun, Monument Manager, 3801 Pegasus Drive, Bakersfield, CA, 93308. Phone at (661) 391-6119 or email at mbraun@blm.gov.

Dated: September 4, 2003.
Marlene Braun,
Manager, Carrizo Plain National Monument.

[FR Doc. 03-23160 Filed 9-10-03; 8:45 am]

BILLING CODE 4310-40-P